DEFENSE NUCLEAR FACILITIES SAFETY BOARD

Sunshine Act Meetings

TIME AND DATE: Session 1: 9:00 a.m.-9:50 a.m., Session 2: 10:00 a.m.-11:30 a.m., Session 3: 11:30 a.m.-12:30 p.m., August 28, 2018.

PLACE: 625 Indiana Avenue, Room 352, Washington, DC 20004.

STATUS: Open. While the Government in the Sunshine Act does not require that the scheduled hearing be conducted in a meeting, the Defense Nuclear Facilities Safety Board has determined that an open meeting and hearing furthers the public interests underlying both the Government in the Sunshine Act and the Board's enabling legislation.

MATTERS TO BE CONSIDERED: Pursuant to the provisions of the “Government in the Sunshine Act” (5 U.S.C. 552b), and as authorized by 42 U.S.C. 2286b, notice is hereby given of the Board's public hearing on August 28, 2018. The goal for the hearing is to gather information on (1) the objectives of and intended improvements to be accomplished by DOE Order 140.1, Interface with the Defense Nuclear Facilities Safety Board; (2) DNFSB access to information, facilities, and personnel; and (3) potential impacts to the DNFSB resident inspector program.

In session 1, the Board will hear the Secretary of Energy's (or his designee's) position on interface between the DNFSB and DOE. The Board and the Secretary of Energy will discuss the objectives and intended improvements for accomplishment through the development of Order 140.1. In session 2, the Board will hear testimony regarding access to information, facilities, and personnel including potential impacts to the DNFSB resident inspector program. The Board and the panel of participants will discuss changes in access to information, facilities, and personnel as a result of DOE Order 140.1; intended changes from the DOE interface manual to the Order and execution challenges; and potential impacts to the DNFSB resident inspector program as a result of DOE Order 140.1.

The agenda for the hearing is posted on the Board's website (www.dnfsb.gov). Public participation in the hearing is invited during the public comment period of the agenda. Persons interested in speaking during the public comment period are encouraged to pre-register by submitting a request in writing to the Board's address listed above, emailing hearing@dnfsb.gov, or calling the Office of the General Counsel at (202) 694-7000 or (800) 788-4016 prior to close of business on August 21, 2018. The Board asks that commenters describe the nature and scope of their oral presentations. Those who pre-register will be scheduled to speak first. Individual oral comments may be limited by the time available, depending on the number of persons who register. At the beginning of the hearing, the Board will post a list of speakers at the entrance to the hearing room. Anyone who wishes to comment or provide technical information or data may do so in writing, either in lieu of, or in addition to, making an oral presentation. The Board Members may question presenters to the extent deemed appropriate. Written comments and documents will be accepted at the hearing or may be sent to the Board's Washington, DC, office. The Board will hold the hearing record open until September 28, 2018, for the receipt of additional materials.

The hearing will be presented live through internet video streaming. A link to the presentation will be available on the Board's website, and a recording will be posted soon after. A transcript of these sessions and the associated correspondence will be made available on the Board's website. The Board specifically reserves its right to further schedule and otherwise regulate the course of the hearing, to recess, reconvene, postpone, or adjourn the hearing, conduct further reviews, and otherwise exercise its authority under the Atomic Energy Act of 1954, as amended.

Contact Person for More Information: Glenn Sklar, General Manager, Defense Nuclear Facilities Safety Board, 625 Indiana Avenue NW, Suite 700, Washington, DC 20004-2901, (800) 788-4016.

Dated: August 7, 2018.
Joyce Connery,
Acting Chairman.

[FR Doc. 2018-17317 Filed 8-8-18; 4:15 pm]

BILLING CODE 3670-01-P